ENVIRONMENTAL PROTECTION AGENCY

[FRL-7804-6]

Air Quality Criteria for Particulate Matter (External Review Draft)

AGENCY: Environmental Protection Agency (EPA).

ACTION: Notice of Draft of Particulate Matter Criteria Document Chapter for Public Review and Comment.

SUMMARY: On or about August 27, 2004, the National Center for Environmental Assessment (NCEA), within EPA's Office of Research and Development, will make available for public review and comment a revised draft of Chapter 9 (integrative synthesis) of EPA's draft Air Quality Criteria for Particulate Matter (EPA/600/P-99/002bD). The revised draft chapter incorporates revisions made in response to earlier public external and Clean Air Act Scientific Advisory Committee (CASAC) reviews of the draft document. Under sections 108 and 109 of the Clean Air Act, the purpose of the Air Quality Criteria for Particulate Matter is to provide an assessment of the latest scientific information on the effects of airborne particulate matter (PM) on the public health and welfare for use in EPA's current review of the National Ambient Air Quality Standards (NAAQS) for PM.

DATES: Comments on the revised draft Chapter 9 (dated August, 2004) must be submitted in writing no later than September 30, 2004. Send the written comments to the Project Manager for Particulate Matter, National Center for Environmental Assessment-RTP (B243-01), U.S. Environmental Protection Agency, Research Triangle Park, NC 27711.

ADDRESSES: The revised draft Chapter 9 of the Air Quality Criteria for Particulate Matter will be available on CD ROM from NCEA-RTP. Contact Ms. Diane Ray by phone (919-541-3637), fax (919-541-1818), or e-mail (ray.diane@epa.gov) to request the chapter. Please provide the document's title, Air Quality Criteria for Particulate Matter, and the EPA number for the revised chapter (EPA/600/P-99/002bD, August 2004 Draft), as well as your name and address, to properly process your request. Internet users will be able to download a copy from the NCEA home page. The URL is http://www.epa.gov/ncea/. Hard copies of the revised chapter can also be made available upon request.

FOR FURTHER INFORMATION CONTACT: Dr. Robert Elias, National Center for Environmental Assessment-RTP (B243-01), U.S. Environmental Protection Agency, Research Triangle Park, NC 27711; telephone: 919-541-4167; fax: 919-541-1818; e-mail: elias.robert@epa.gov.

SUPPLEMENTARY INFORMATION: The revised draft Chapter 9 will be reviewed by CASAC on September 20, 2004, via a publically accessible teleconference. The arrangements for the CASAC meeting will be announced in a separate Federal Register notice.

Dated: August 18, 2004.
Charles Ris,
Acting Director, National Center for Environmental Assessment.

[FR Doc. 04-19323 Filed 8-20-04; 8:45 am]

BILLING CODE 6560-50-P